DEPARTMENT OF DEFENSE

Department of the Navy

Notice of Availability for Final Environmental Impact Statement for the Activities To Implement 2005 Base Realignment and Closure Actions at National Naval Medical Center, Bethesda, MD

AGENCY: Department of the Navy, DoD.

ACTION: Notice.

SUMMARY: Pursuant to Section (102)(2)(C) of the National Environmental Policy Act of 1969 (NEPA), the regulations implemented by the Council on Environmental Quality (40 CFR parts 1500-1508), and the Department of the Navy (DON) NEPA regulation (32 CFR part 775), DON announces the availability of the Final Environmental Impact Statement (FEIS) for potential environmental impacts associated with implementing actions directed by the Defense Base Closure and Realignment (BRAC) Act of 1990, Public Law 101-510, as amended in 2005 (BRAC Law), at the National Naval Medical Center (NNMC) in Bethesda, MD.

DATES: The Wait Period (No Action Period) for the FEIS will end 30 days after publication of an NOA in the Federal Register by the U.S. Environmental Protection Agency.

ADDRESSES: Officer in Charge—BRAC, National Naval Medical Center, 8901 Wisconsin Avenue, Bethesda, MD 20889 and Telephone: 301-319-4561.

FOR FURTHER INFORMATION CONTACT: Officer in Charge—BRAC, National Naval Medical Center, 8901 Wisconsin Avenue, Bethesda, MD 20889 and Telephone: 301-319-4561.

SUPPLEMENTARY INFORMATION: Under the BRAC law, the Walter Reed Army Medical Center (WRAMC) will realign all tertiary and complex health care services to the NNMC campus in Bethesda. The transfer and integration of these services with existing functions at NNMC will result by law in creation of a new premier military health care center to be named the Walter Reed National Military Medical Center (WRNMMC) at Bethesda, MD, and is to be accomplished by 15 September 2011.

The BRAC-directed realignment will bring additional patients and visitors requiring additional staff and facilities to be provided at NNMC. The FEIS provides information on the proposed new construction and facility alterations, current estimates of the additional staff that will be needed, and an assessment of the potential environmental impacts associated with implementation of these realignment actions at NNMC in Bethesda, MD.

The FEIS addresses three alternatives: Two alternatives that implement the BRAC-directed actions and a No Action Alternative. Both BRAC implementation alternatives provide the same facilities with some facility site changes and differences between new construction and renovation to obtain required facilities. The environmental impacts between the two BRAC alternatives are similar.

The Navy's Preferred Alternative would add approximately 1,144,000 square feet (SF) of new building construction, provide approximately 508,000 SF of renovation to existing building space at NNMC, and provide approximately 824,000 SF of new parking facilities. It would accommodate approximately 2,500 additional staff and an estimated 1,862 patients and visitors each weekday.

The new construction or improvements to existing facilities would provide medical care and administration additions and alterations, a National Intrepid Center of Excellence for traumatic brain injury and psychological health care, permanent and temporary lodging facilities (Bachelor Enlisted Quarters and Fisher Houses™), a new physical fitness center, additional parking, and road and utility improvements on the installation as needed to support the new facilities.

The FEIS finds that the Preferred Alternative would have minimal impacts to soil, water, or biological resources because the new facilities would be constructed on either existing development such as parking lots or on landscaped areas with only a small increase in impervious surfaces. No effects to rare, threatened, and endangered species would be expected under the Preferred Alternative.

Emissions of air pollutants from construction and operations of the Preferred Alternative would not exceed de minimis levels or ambient standards established by the U.S. Environmental Protection Agency for protection of the airshed and thus air quality impacts would not be significant. A short-term increase in noise levels would occur during construction that is typical of construction activities. Utility expansions would be required, but major issues are not anticipated.

The Navy is pursuing formal Section 106 consultation under the National Historic Preservation Act to resolve all adverse effects to historic properties.

The Preferred Alternative will add traffic to an area already experiencing heavy traffic congestion. The FEIS provides a number of recommended improvements both on and off Base to address the effects of the traffic generated by the Preferred Alternative. The Navy is programming funds for improvements at gates and on Base and is submitting a request for Defense Access Road Program approval for some of these improvements off Base.

The FEIS finds all direct effects to land use to be within NNMC and consistent with NNMC plans; all actions take place within the NNMC boundaries. Off Base, the BRAC actions increase traffic on roads already experiencing traffic congestion. Community planners believe that the traffic congestion in the region could cause land development plans to be altered and the BRAC traffic volumes contribute to the congestion with heavier volumes than previously anticipated in their plans.

Economic impacts to the surrounding economy from the large investment in construction and renovation of facilities under the Preferred Alternative would be beneficial. Personnel relocating from WRAMC are not expected to change their off base residences and lodging being added for the increase in staff, patients and visitors is considered adequate; impacts to local housing, schools, or community services are expected to be minimal. Impacts to human health and safety are not expected.

The FEIS has been distributed to various federal, state, and local agencies, elected officials, special interest groups, and interested parties. The FEIS is also available at the following local libraries and public facilities: Bethesda Library, 7400 Arlington Road, Bethesda, MD, 20814; Chevy Chase Library, 8005 Connecticut Avenue, Chevy Chase, MD, 20815; Davis Library, 6400 Democracy Boulevard, Bethesda, MD, 20817; Kensington Park Library, 4201 Knowles Avenue, Kensington, MD, 20895; Rockville Library, 21 Maryland Avenue, Rockville, MD 20850; Bethesda-Chevy Chase Regional Services Center, 4805 Edgemoor Lane, Bethesda, MD, 20814; Bethesda Urban Partnership, Inc., 7700 Old Georgetown Road, Bethesda, MD, 20814; and Bethesda-Chevy Chase Chamber of Commerce, 7910 Woodmont Avenue, Suite 1204, Bethesda, MD, 20814.

The FEIS is also available at the following Web sites: http://www.bethesda.med.navy.mil/Professional/Public_Affairs/BRAC/; and http://www.montgomerycountymd.gov/brac.

Dated: March 28, 2008.
T.M. Cruz,
Lieutenant, Judge Advocate Generals Corps, U.S. Navy, Federal Register Liaison Officer.

[FR Doc. E8-6891 Filed 4-2-08; 8:45 am]

BILLING CODE 3810-FF-P